DEPARTMENT OF LABOR

Employment and Training Administration

[TA-W-41,636]

Invensys, Inc., The Foxboro Company, Foxboro, MA; Notice of Termination of Investigation

Pursuant to Section 221 of the Trade Act of 1974, an investigation was initiated on June 10, 2002, in response to a petition filed by a company official on behalf of workers at Invensys, Inc., The Foxboro Company, Foxboro, Massachusetts.

The company official submitting the petition has requested that the petition be withdrawn. Consequently, further investigation in this case would serve no purpose, and the investigation has been terminated.

Signed in Washington, DC this 21st day of August, 2002.
Elliott S. Kushner,
Certifying Officer, Division of Trade Adjustment Assistance.

[FR Doc. 02-22959 Filed 9-9-02; 8:45 am]

BILLING CODE 4510-30-P